COMMITTEE FOR PURCHASE FROM PEOPLE WHO ARE BLIND OR SEVERELY DISABLED

Procurement List; Proposed Additions and Deletions

AGENCY: Committee for Purchase From People Who Are Blind or Severely Disabled.

ACTION: Proposed additions to and deletions from the Procurement List.

SUMMARY: The Committee is proposing to add products to the Procurement List that will be furnished by nonprofit agencies employing persons who are blind or have other severe disabilities, and deletes a product and services previously furnished by such agencies.

DATES: Comments must be received on or before October 23, 2016.

ADDRESSES: Committee for Purchase From People Who Are Blind or Severely Disabled, 1401 S. Clark Street, Suite 715, Arlington, Virginia 22202-4149.

FOR FURTHER INFORMATION CONTACT: Barry S. Lineback, Telephone: (703) 603-7740, Fax: (703) 603-0655, or email CMTEFedReg@AbilityOne.gov.

SUPPLEMENTARY INFORMATION: This notice is published pursuant to 41 U.S.C. 8503(a)(2) and 41 CFR 51-2.3. Its purpose is to provide interested persons an opportunity to submit comments on the proposed actions.

Additions

If the Committee approves the proposed additions, the entities of the Federal Government identified in this notice will be required to procure the products listed below from the nonprofit agencies employing persons who are blind or have other severe disabilities.

The following products are proposed for addition to the Procurement List for production by the nonprofit agencies listed:

Products

NSN(s)—Product Name(s):

7520-00-SAM-0208—File Folder, Expanding, 12 Tab, Flap and Cord Closure, Polypropylene, Smoke Gray

7520-00-SAM-0209—File Folder, Expanding, 12 Tab, Flap and Cord Closure, Polypropylene, Blue

7520-00-SAM-0210—File Folder, Expanding, 12 Tab, Flap and Cord Closure, Polypropylene, Purple

7520-00-SAM-0212—File Storage Box, Expanding, Flap and Cord Closure, Polypropylene, Black

7520-00-SAM-0216—File Storage Box, Expanding, 19 tab, Alpha/Subject, Latch Closure, Pressboard and Kraft Paper, Black

7520-00-SAM-0218—File Folder, Expanding, 7 Tab with Pockets, Flap and Cord Closure, Polypropylene, Black

Mandatory for: Total Government Requirement

Mandatory Source(s) of Supply: Exceptional Children's Foundation, Culver City, CA

Contracting Activity: General Services Administration, New York, NY

Distribution: A-List

Service

Service Type: Mailroom Operation

Mandatory for: Missile Defense Agency, Missile Defense Agency Mailroom, Schriever AFB, CO

Mandatory Source(s) of Supply: Huntsville Rehabilitation Foundation, Huntsville, AL

Contracting Activity: Missile Defense Agency, Huntsville, AL

Deletions

The following product and services are proposed for deletion from the Procurement List:

Product

NSN(s)—Product Name(s): 8030-01-347-0979—Compound, Corrosion Preventative, Type I, Class I

Mandatory Source(s) of Supply: The Lighthouse for the Blind, St. Louis, MO

Contracting Activity: General Services Administration, Kansas City, MO

Services

Service Type: Administrative/General Support Service

Mandatory for: GSA, Southwest Supply Center 819 Taylor Street, Fort Worth, TX

Mandatory Source(s) of Supply: The Arkansas Lighthouse for the Blind, Little Rock, AR

Contracting Activity: General Services Administration, FPDS Agency Coordinator

Service Type: Custodial Service

Mandatory for: Department of Veterans Affairs, Quad Cities Veterans Center 1529 46th Avenue, Moline, IL

Mandatory Source(s) of Supply: The Arc of the Quad Cities Area, Rock Island, IL

Contracting Activity: Dept of Veterans Affairs, 438-Sioux Falls VA Medical Center

Barry S. Lineback,
Director, Business Operations.

[FR Doc. 2016-22979 Filed 9-22-16; 8:45 am]

BILLING CODE 6353-01-P